DEPARTMENT OF TRANSPORTATION

Federal Aviation Administration

Notice of Intent To Rule on Application 03-04-C-00-YNG To Impose and Use Excess Revenue From a Passenger Facility Charge (PFC) at Youngstown-Warren Regional Airport, Youngstown, Ohio

AGENCY: Federal Aviation Administration (FAA), DOT.

ACTION: Notice of intent to rule on application.

SUMMARY: The FAA proposes to rule and invites public comment on the application to impose and use the excess revenue from a PFC at Younstown-Warren Regional Airport under the provisions of the 49 U.S.C. 40117 and part 158 of the Federal Aviation Regulations (14 CFR part 158).

DATES: Comments must be received on or before October 22, 2003.

ADDRESSES: Comments on this application may be mailed or delivered in triplicate to the FAA at the following address: Detroit Airports District Office, 11677 South Wayne Road, Suite 107, Romulus, Michigan 48174.

In addition, one copy of any comments submitted to the FAA must be mailed or delivered to Mr. Steve Bower of the Western Reserve Port Authority at the following address: 1453 Youngstown-Kingsville Road, NE., Vienna, OH 44473-9797.

Air carriers and foreign air carriers may submit copies of written comments previously provided to the Western Reserve Port Authority under section 158.23 of Part 158.

FOR FURTHER INFORMATION CONTACT: Mr. Jason K. Watt, Program Manager, Detroit Airports District Office, 11677 South Wayne Road, Suite 107, Romulus, Michigan, (734) 229-2906. The application may be reviewed in person at this same location.

SUPPLEMENTARY INFORMATION: The FAA proposes to rule and invites public comment on the application to impose and use the excess revenue from a PFC at Youngstown-Warren Regional Airport under the provisions of the 49 U.S.C. 40117 and Part 158 of the Federal Aviation Regulations (14 CFR part 158).

On September 3, 2003, the FAA determined that the application to impose and uses the excess revenue from a PFC submitted by Western Reserve Port Authority was substantially complete within the requirements of section 158.25 of part 158. The FAA will approve or disapprove the application, in whole or in part, no later than December 3, 2003.

The following is a brief overview of the application.

Total excess PFC revenue: $36,163

Brief description of proposed projects: Runway safety area modifications and terminal sanitary sewer, passenger facility charge administration.

Any person may inspect the application in person at the FAA office listed above under FOR FURTHER INFORMATION CONTACT. In addition, any person may, upon request, inspect the application, notice and other documents germane to the application in person at the Western Reserve Port Authority.

Issued in Des Plains, Illinois, on September 11, 2003.
Barbara J. Jordan,
Acting Manager, Planning and Programming Branch, Airports Division, Great Lakes Region.

[FR Doc. 03-24144 Filed 9-18-03; 12:01 pm]

BILLING CODE 4910-13-P